DEPARTMENT OF HOUSING AND URBAN DEVELOPMENT

[Docket No. FR-5846-N-01]

Jobs-Plus Pilot Initiative

AGENCY: Office of the Assistant Secretary for Public and Indian Housing, HUD.

ACTION: Notice.

SUMMARY: On October 7, 2014, HUD announced through notice in the Grants.gov Web site the Notice of Funding Availability (NOFA) for the Jobs-Plus Pilot Initiative. The Jobs-Plus Pilot Initiative (Jobs-Plus) provides competitive grants to partnerships between public housing authorities, local workforce investment boards established under section 117 of the Workforce Investment Act of 1998, and other agencies and organizations that provide support to help public housing residents obtain employment and increase earnings. Applicants for Job Plus consist of public housing agencies (PHAs) who demonstrate the ability to provide services to residents, partner with workforce investment boards, and leverage service dollars. The October 7, 2014 NOFA provided for full implementation of Jobs-Plus. This Federal Register notice published today announces waivers and alternative requirements and meets the Jobs-Plus statutory requirement to publish waivers and alternative requirements authorized by the statute at least 10 days before they may take effect.

DATES: Effective Dates: Sections I and II of the Appendix—Jobs-Plus Initiative and Alternate Requirements in this notice are effective March 13, 2015. The statutory and regulatory waivers in the appendix to this notice are effective March 23, 2015.

FOR FURTHER INFORMATION CONTACT: To assure a timely response, please electronically direct requests for further information to this email address: JobsPlus@hud.gov. Written requests may also be directed to the following address: Office of Public and Indian Housing—Anice S. Chenault, U.S. Department of Housing and Urban Development, 451 7th Street SW., Room 4120; Washington, DC 20410.

SUPPLEMENTARY INFORMATION:

I. Background

Jobs-Plus, authorized by the Consolidated Appropriations Act, 2014, (Pub. L. 113-76, approved January 17, 2014) (2014 Appropriations Act) promotes economic empowerment in low-income areas by providing funding to PHAs that develop, locally-based approaches to increase earnings and advance employment outcomes such as work readiness, employer linkages, job placement and counseling, educational advancement and financial counseling for their public housing families. As provided in the NOFA that HUD published on October 7, 2014, at http://www.grants.gov/web/grants/search-grants.html?keywords=FR-5800-N-24, there will be approximately $15 Million in grants made available to Job-Plus grantees in order to address entrenched poverty among public housing residents through collaboration among local housing authorities, residents of public housing projects, local welfare agencies, local workforce development agencies, and other relevant partners. It is aimed at significantly increasing earnings and advancing employment outcomes for public housing residents and leverages research conducted by the Manpower Demonstration Research Corporation on Jobs-Plus.

In addition, the NOFA also made $9 million available from the Resident Opportunity and Self-Sufficiency Service Coordinator (ROSS-SC) account to support the services element of Jobs-Plus. The service element will include intensive, employment-focused programs targeting every able-bodied, working-age welfare recipient at a public housing project.

Waivers and Alternative Requirements. The 2014 Appropriations Act provides that waivers and alternative requirements authorized under Jobs-Plus shall be published by notice in the Federal Register no later than 10 days before the effective date of such notice. The Consolidated and Further Continuing Appropriations Act, 2015 (Public Law 113-235, approved December 16, 2014), has a similar proviso. This notice carries out that statutory requirement. Under Jobs-Plus, HUD is authorized to waive or alter the rent and income limitation requirements under sections 3 and 6 of the United States Housing Act of 1937 as necessary to implement Jobs-Plus. This list of these waivers and alternative requirements are in the appendix of this notice.

II. Environmental Review

This Notice involves administrative and fiscal requirements related to income limits and exclusions with regard to calculation of rental assistance which do not constitute a development decision affecting the physical condition of specific project areas or building sites. Accordingly, under 24 CFR 50.19(c)(6), this Notice is categorically excluded from environmental review under the National Environmental Policy Act of 1969 (42 U.S.C. 4321).

Dated: March 6, 2015.
Jemine A. Bryon,
Acting Assistant Secretary for Public and Indian Housing.

Appendix—Jobs-Plus Pilot Initiative and Alternative Requirements

The Jobs-Plus statute (Consolidated Appropriations Act, 2014, Pub. L. 113-76) provides that waivers and alternative requirements authorized by the Secretary shall be published by notice in the Federal Register no later than 10 days before the effective date of such notice. This appendix carries out that statutory requirement. Under the Consolidated Appropriations Act, 2014, HUD is authorized to waive or alter the rent and income limitation requirements under sections 3 and 6 of the United States Housing Act of 1937 as necessary to implement Jobs-Plus. Provided below is a list of waivers and alternative requirements that shall come into effect on March 23, 2015.

The list of waivers and alternative requirements, as described above, follows:

I. Public Housing Rent Calculation

Permissive exclusions for public housing. Provisions affected: Section 6(c) of the United States Housing Act of 1937 (42 U.S.C. 1437d), 3(b)(5)(B) of the United States Housing Act of 1937 (42 U.S.C. 1437a), and 24 CFR 5.609(c). Alternative requirements: The PHA shall be required to calculate the annual earned income for Jobs-Plus participants receiving the 48-month Jobs-Plus earned income exclusion separately for the purposes of determining the amount of annual income excluded under Jobs-Plus. As such, income that is excluded under Jobs-Plus shall be factored into tenant rent calculation and any increases shall be considered part of the tenant rent contribution, though not charged to the family. Such amounts shall be provided to HUD for review in order to receive additional subsidy. The PHA shall then be provided funds to offset the decrease in funding associated with the increased tenant income using grant amounts made available under the Jobs-Plus appropriations line item.

II. Public Housing Income Limitation Requirements

Disallowance of earned income from rent determination. Provisions affected: HUD is waiving section 3(d)(1) and(2), of the United States Housing Act of 1937 (42 U.S.C. 1437a) and 24 CFR 960.255(b)(1), (b)(2), (b)(3) & (d). Alternative requirements: A PHA may disallow all earned income from rent determinations for families in Jobs-Plus public housing projects for increased income due to employment over the baseline income for a continuous 48-month period beginning on the date on which employment commenced. A PHA must require members of a family in a Jobs-Plus public housing project to enroll in Jobs-Plus in order to obtain the Jobs-Plus earned income disregard. The PHA shall not setup Individual Savings Accounts in lieu of providing the Jobs-Plus earned income exclusion. Any compensation to the PHA for lost rent revenues, such as by the standard earned income disregard calculation in the Operating Fund, will be offset manually to prevent overpayment of HUD funds to grant recipients. Instead, PHAs shall use funds received through the Jobs-Plus appropriations to reimburse lost income due to Jobs-Plus rent incentives.

There shall be no phase-in period for families participating in Jobs-Plus public housing projects and upon completion of the 48-month earned income exclusion period, the family shall be required to provide 100% of the amount of the applicable total rent increase. Families participating in Jobs-Plus shall receive a continuous Jobs-Plus earned income disregard for a lifetime 48-months, which shall also be the maximum earned income disallowance for the family. Accordingly, the standard lifetime maximum four year disallowance proscribed in regulation and statute shall not apply to Jobs-Plus families participating in Jobs-Plus.

[FR Doc. 2015-05763 Filed 3-12-15; 8:45 am]

BILLING CODE 4210-67-P